DEPARTMENT OF HOMELAND SECURITY

Federal Emergency Management Agency

44 CFR Part 67

[Docket No. FEMA-B-1017]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before February 9, 2009.

ADDRESSES: The corresponding preliminary Flood Insurance Rate Map (FIRM) for the proposed BFEs for each community are available for inspection at the community's map repository. The respective addresses are listed in the table below.

You may submit comments, identified by Docket No. FEMA-B-1017, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Miller County, Arkansas, and Incorporated Areas
McKinney Bayou Tributary 2A | Approximately 4,306 feet downstream from the intersection of Shugar Hill Road and McKinney Bayou Tributary 2A. | None | +272 | Unincorporated Areas of Miller County.
| Approximately 630 feet downstream from the intersection of Shugar Hill Road and McKinney Bayou Tributary 2A | None | +288
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Miller County
Maps are available for inspection at Miller County Courthouse, 400 Laurel St., Texarkana, AR 71854.
Madison County, Florida, and Incorporated Areas
Norton Creek | Approximately 2.1 miles upstream of the confluence with the Withlacoochee River | None | +69 | Town of Lee, Unincorporated Areas of Madison County.
| Approximately 0.1 mile upstream of County Road 53 | None | +91
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Lee
Maps are available for inspection at Lee Town Hall, 286 Northeast County Road 255, Lee, FL.
Unincorporated Areas of Madison County
Maps are available for inspection at Madison County Annex Building, 229 Southwest Pinckney Street, Suite 219, Madison, FL.
Crisp County, Georgia, and Incorporated Areas
Gum Creek | 9,000 feet downstream of West Eleventh Street | None | +277 | Unincorporated Areas of Crisp County.
| 850 feet downstream of West Eleventh Street | None | +284
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Crisp County
Maps are available for inspection at 210 Seventh Street, Cordele, GA 31015.
Dougherty County, Georgia, and Incorporated Areas
Dry Creek | Approximately 150 feet upstream of Liberty Expressway | +182 | +184 | Unincorporated Areas of Dougherty County.
| At Liberty Expressway | +182 | +184
Dry Creek Tributary 1 | Approximately 1,875 feet downstream of Moultrie Road | None | +238 | Unincorporated Areas of Dougherty County.
| Approximately 1,275 feet upstream of Moultrie Road | None | +249
Dry Creek Tributary 4 | Approximately 2,400 feet downstream of U.S. Highway 19 | None | +174 | Unincorporated Areas of Dougherty County.
| Approximately 4,136 feet downstream of U.S. Highway 19 | None | +174
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Dougherty County
Maps are available for inspection at 222 Pine Avenue, Albany, GA 31702.
Lamar County, Georgia, and Incorporated Areas
Tobesofkee Creek | Approximately 204 feet downstream of Barnesville Corporate Limits | None | +764 | Unincorporated Areas of Lamar County.
| Approximately 1 foot downstream of Barnesville Corporate Limits | None | +765
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Lamar County
Maps are available for inspection at 326 Thomaston Street, Lamar, GA 30204.
Mitchell County, Georgia, and Incorporated Areas
Big Slough | Upstream just within Camilla city limits | None | +161 | Unincorporated Areas of Mitchell County.
| Directly downstream of U.S. Hwy 19 | None | +163
| Directly upstream of U.S. Hwy 19 | None | +165
| Upstream of Sylvester Road | None | +169
Big Slough Tributary 10 | Downstream of Moultrie Road | None | +169 | Unincorporated Areas of Mitchell County.
| Upstream of S MacArthur Drive | None | +175
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Mitchell County
Maps are available for inspection at P.O. Box 187, Camilla, GA 31730.
Thomas County, Georgia, and Incorporated Areas
Gatling Branch Tributary 11 | Approximately 40 feet upstream of Pine Tree Boulevard | None | +262 | Unincorporated Areas of Thomas County , City of Thomasville.
| Approximately 128 feet downstream of Pine Tree Boulevard | None | +262
Wards Creek | Approximately 1,900 feet downstream of Habersham Road | None | +220 | City of Thomasville, Unincorporated Areas of Thomas County.
| Approximately 469 feet upstream of Habersham Road | None | +232
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Thomasville
Maps are available for inspection at 111 Victoria Place, Thomasville, GA 31799.
Unincorporated Areas of Thomas County
Maps are available for inspection at P.O. Box 920, Thomasville, GA 31799.
Upson County, Georgia, and Incorporated Areas
Bell Creek | Approximately 1,990 feet upstream of Raines Street | +582 | +584 | Unincorporated Areas of Upson County.
| Approximately 1,800 feet downstream of Raines Street | +604 | +605
Potato Creek | Approximately 50 feet downstream of Crest Highway | +615 | +616 | Unincorporated Areas of Upson County.
| Approximately 5,400 feet upstream of Crest Highway | +636 | +637
Potato Creek Tributary | At Jeff Davis Road | +711 | +712 | Unincorporated Areas of Upson County.
| Approximately 100 feet upstream of Jeff Davis Road | +713 | +714
Town Branch | Approximately 5,461 feet downstream of Davis Lake Road | +582 | +584 | Unincorporated Areas of Upson County.
| Approximately 4,600 feet upstream of Davis Lake Road | +648 | +652
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Upson County
Maps are available for inspection at P.O. Box 889, Thomaston, GA 30286.
Worth County, Georgia, and Incorporated Areas
Town Creek Tributary 2 | Approximately 270 feet upstream of Young Street | None | +358 | Unincorporated Areas of Worth County.
| Approximately 10 feet upstream of West Franklin Street | None | +364
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Worth County
Maps are available for inspection at 201 North Main Street, Sylvester, GA 31791.
St. Mary Parish County, Louisiana, and Incorporated Areas
Gulf of Mexico | Base Flood Elevation changes ranging from 8 to 14 feet in the form of Coastal AE zones have been made | +8-19 | +8-14 | City of Franklin, City of Morgan City, Town of Berwick.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Franklin
Maps are available for inspection at Franklin City Hall, 300 Iberia Street, Franklin, LA 70538.
City of Morgan City
Maps are available for inspection at Morgan City Hall, 512 First Street, Morgan City, LA 70381.
Town of Berwick
Maps are available for inspection at Berwick Town Hall, 3225 Third Street, Berwick, LA 70342.
Gloucester County, New Jersey, and Incorporated Areas
Brunt Mill Branch | At County Boundary | None | +87 | Township of Franklin.
| Approximately 1,573 feet upstream of West Boulevard | None | +93
Delaware River | At County Boundary | +13 | +9 | Township of Greenwich, Borough of National Park, Borough of Paulsboro, Township of Logan, Township of West Deptford.
| At County Boundary | +14 | +9
Little Ease Run | Approximately 546 feet downstream of East Washington Drive | None | +103 | Borough of Clayton, Borough of Glassboro.
| Approximately 2.1 miles upstream of County Route 610 | None | +119
Mantua Creek | At mouth | +13 | +9 | Township of Deptford, Borough of Glassboro, Borough of Paulsboro, Borough of Pitman, Borough of Wenonah, Township of East Greenwich, Township of Mantua, Township of Washington, Township of West Deptford.
| Approximately 62 feet upstream of County Route 634 | None | +110
Oldmans Creek Reach 1 | At mouth | +8 | +9 | Township of Logan.
| Approximately 1,034 feet upstream of Interstate 295 | +8 | +9
Pargey Creek | At confluence with Repaupo Creek | +8 | +9 | Township of East Greenwich, Township of Greenwich, Township of Logan, Township of Woolwich.
| At Swedesboro Avenue | +8 | +9
Raccoon Creek Reach 1 | At mouth | +8 | +9 | Township of Logan, Borough of Swedesboro, Township of Woolwich.
| Approximately 106 feet upstream of Kings Highway | +8 | +9
Raccoon Creek Reach 2 | Approximately 3,625 feet downstream of Tomlin Station Road | None | +12 | Township of Elk, Borough of Glassboro, Township of Harrison, Township of Woolwich.
| Approximately 2,707 feet upstream of Richwood Road | None | +110
Repaupo Creek | At confluence with Delaware River | +8 | +9 | Township of East Greenwich, Township of Greenwich, Township of Logan.
| Approximately 2,390 feet upstream of State Route 44 | +8 | +9
Scotland Run Reach 2 | Approximately 420 feet downstream of County Route 610 | None | +111 | Borough of Clayton, Township of Franklin, Township of Monroe.
| Approximately 5,825 feet upstream of County Route 610 | None | +118
South Branch Raccoon Creek | Confluence with Raccoon Creek Reach 2 | None | +16 | Township of Harrison, Township of South Harrison.
| Approximately 657 feet upstream of County Route 581 | None | +45
Still Run #1 | At confluence with White Sluice Run | +8 | +9 | Township of East Greenwich, Township of Greenwich.
| Approximately 0.7 mile upstream of Swedesboro Avenue | +8 | +9
Still Run #2 | Approximately 1,200 feet upstream of State Highway 55 | None | +107 | Township of Elk, Borough of Clayton.
| Approximately 5,313 feet upstream of County Route 608 | None | +115
White Sluice Run | At mouth | +8 | +9 | Township of Greenwich.
| At confluence with London Branch and Still Run #1 | +8 | +9
Woodbury Creek | At mouth | +8 | +9 | Borough of National Park, City of Woodbury, Township of West Deptford.
| Approximately 7,987 feet upstream of Interstate 295 | +8 | +9
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Borough of Clayton
Maps are available for inspection at Clayton Borough Hall, 125 North Delsea Drive, Clayton, NJ.
Borough of Glassboro
Maps are available for inspection at Glassboro Borough Hall, 1 South Main Street, Glassboro, NJ.
Borough of National Park
Maps are available for inspection at National Park Borough Hall, 7 South Grove Avenue, National Park, NJ.
Borough of Paulsboro
Maps are available for inspection at Paulsboro Municipal Building, 1211 Delaware Street, Paulsboro, NJ.
Borough of Pitman
Maps are available for inspection at Pitman Borough Hall, 110 South Broadway, Pitman, NJ.
Borough of Swedesboro
Maps are available for inspection at Swedesboro Borough Hall, 1500 Kings Highway, Swedesboro, NJ.
Borough of Wenonah
Maps are available for inspection at Wenonah Borough Office, 1 South West Avenue, Wenonah, NJ.
City of Woodbury
Maps are available for inspection at Woodbury City Hall, 33 Delaware Street, Woodbury, NJ.
Township of Deptford
Maps are available for inspection at Deptford Township Department of Emergency Management, 1011 Cooper Street, Deptford, NJ.
Township of East Greenwich
Maps are available for inspection at East Greenwich Township Hall/Municipal Building, 159 Democrat Road, Mickleton, NJ.
Township of Elk
Maps are available for inspection at Elk Township Hall, 667 Whig Lane Road, Monroeville, NJ.
Township of Franklin
Maps are available for inspection at Franklin Municipal Building, 1571 Delsea Drive, Franklinville, NJ.
Township of Greenwich
Maps are available for inspection at Greenwich Municipal Building, 420 Washington Street, Gibbstown, NJ.
Township of Harrison
Maps are available for inspection at Harrison Municipal Building, 114 Bridgeton Pike, Mullica Hill, NJ.
Township of Logan
Maps are available for inspection at Logan Township Hall, 125 Main Street, Bridgeport, NJ.
Township of Mantua
Maps are available for inspection at Mantua Township Offices, 401 Main Street, Mantua, NJ.
Township of Monroe
Maps are available for inspection at Monroe Township Hall, 125 Virginia Avenue, Williamstown, NJ.
Township of South Harrison
Maps are available for inspection at South Harrison Township Hall, 664 Harrisonville Road, Harrisonville, NJ.
Township of Washington
Maps are available for inspection at Washington Township Municipal Building, 523 Egg Harbor Road, Sewell, NJ.
Township of West Deptford
Maps are available for inspection at West Deptford Municipal Office, 400 Crown Point Road, West Deptford, NJ.
Township of Woolwich
Maps are available for inspection at Woolwich Township Hall, 121 Woodstown Road, Woolwich, NJ.
Middlesex County, New Jersey, and Incorporated Areas
Ambrose Brook | Approximately 1,875 feet upstream of Stelton Road (Route 529) | None | +78 | Township of Edison.
| Approximately 1,820 feet upstream of Stelton Road (Route 529) | None | +78
Bonygutt Brook | Approximately 700 feet downstream of Bound Brook Road | +47 | +46 | Borough of Dunellen, Township of Piscataway.
| Approximately 0.4 mile upstream of South Washington Avenue (Route 529) | +53 | +54
Bound Brook | Upstream side of South Avenue | +49 | +47 | Township of Piscataway.
| Approximately 750 feet upstream of South Avenue | +49 | +48
Boundary Branch Mill Brook No. 1 | Confluence with Mill Brook No. 1 | +38 | +45 | Borough of Highland Park, Township of Edison.
| To 25 feet downstream of Brookhill Avenue | +70 | +74
Coppermine Brook | Confluence with South Branch Rahway River | +39 | +40 | Township of Edison, Township of Woodbridge.
| Approximately 1,870 feet upstream of Lincoln Highway (Route 27) | None | +59
Green Brook | Confluence with Raritan River | +32 | +34 | Borough of Middlesex.
| Downstream side of New Jersey Central Railroad | +33 | +34
Lake Lefferts | Entire shoreline within Middlesex County | None | +17 | Township of Old Bridge.
Lawrence Brook | Confluence with Raritan River | +9 | +11 | Township of East Brunswick.
| Downstream side of Westons Mill Dam 1 | +12 | +11
Matawan Creek | Downstream side of Old Bridge Matawan Road | None | +17 | Township of Old Bridge.
| Approximately 0.8 mile upstream of Old Bridge Matawan Road | None | +25
Mill Brook No. 1 | Confluence with Raritan River | +14 | +16 | Borough of Highland Park.
| Approximately 955 feet upstream of Harrison Avenue | +44 | +45
Rahway River | Confluence with Arthur Kill | +8 | +7 | Borough of Carteret, Township of Woodbridge.
| County boundary | +9 | +7
Raritan River | Approximately 1.4 miles downstream of New Jersey Turnpike | +9 | +10 | Township of East Brunswick, Borough of Highland Park, Borough of Middlesex, City of New Brunswick, Township of Edison, Township of Piscataway.
| Confluence with Green Brook | +32 | +34
South Branch Rahway River | Upstream side of Wood Avenue | +39 | +40 | Township of Edison, Township of Woodbridge.
| Approximately 450 feet upstream of County Route 657 | None | +44
West Branch Mill Brook No. 1 | Confluence with Mill Brook No. 1 | +30 | +31 | Borough of Highland Park.
| Approximately 760 feet upstream of Bartle Court | None | +51
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Borough of Carteret
Maps are available for inspection at Carteret Memorial Municipal Building, 61 Cooke Avenue, Carteret, NJ.
Borough of Dunellen
Maps are available for inspection at 355 North Avenue, Dunellen, NJ 08812.
Borough of Highland Park
Maps are available for inspection at 3141 Bordertown Avenue, Parlin, NJ 08859.
Borough of Middlesex
Maps are available for inspection at 1200 Mountain Avenue, Middlesex, NJ 08846.
City of New Brunswick
Maps are available for inspection at 78 Bayard Street, New Brunswick, NJ 08901.
Township of East Brunswick
Maps are available for inspection at One Jean Walling Civic Center Drive, East Brunswick, NJ 08816.
Township of Edison
Maps are available for inspection at 100 Municipal Boulevard, Edison, NJ 08817.
Township of Old Bridge
Maps are available for inspection at One Old Bridge Plaza, Old Bridge, NJ 08857.
Township of Piscataway
Maps are available for inspection at 455 Hoes Lane, Piscataway, NJ 08854.
Township of Woodbridge
Maps are available for inspection at One Main Street, Woodbridge, NJ 07095.
McKinley County, New Mexico, and Incorporated Areas
Little Puerco Wash | Approximately 211 feet upstream of the intersection of Mesa Avenue at Little Puerco Wash. | None | +6543 | City of Gallup, McKinley County.
| Approximately 3,696 feet upstream of the intersection of Mesa Avenue and Little Puerco Wash | None | +6606
Puerco River | Approximately 2,904 feet upstream of the intersection of Interstate 40 and State Highway 66. | +6469 | +6469 | City of Gallup, McKinley County.
| Approximately 1,320 feet upstream of the intersection of Ford Drive and the Puerco River | +6523 | +6523
Zuni River | Approximately 5,700 feet upstream from Indian Service Route 40 | None | +6259 | Pueblo of Zuni.
| Approximately 5,016 feet downstream from the Black Rock Lake Reservoir Dam | +6326 | +6327
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Gallup
Maps are available for inspection at 110 West Aztec Avenue, Gallup, NM 87301.
McKinley County
Maps are available for inspection at Office of the County Manager, 207 West Hill Avenue, Gallup, NM 87301.
Pueblo of Zuni
Maps are available for inspection at Tribal Court, 1203B State Highway 53, Zuni, NM 87327.
York County, Pennsylvania, and Incorporated Areas
Bald Eagle Creek | Approximately 170 feet downstream of Bald Eagle Road | None | +363 | Township of Fawn.
| 20 feet downstream of Bald Eagle Road | None | +363
Barsinger Creek & Barsinger Creek Tributary 1 | Approximately 550 feet upstream on Arbor Road | None | +521 | Township of North Hopewell.
| Approximately at Stine Hill Road | None | +660
Bennett Run | At Front Street Bridge over Bennett Run | None | +423 | Township of Fairview.
| Approximately 230 feet downstream of Front Street | None | +423
Centerville Creek | Approximately at confluence of South Branch Codorus Creek and Centerville Creek | None | +534 | Township of Shrewsbury.
| Approximately 300 feet west of intersection of Fissels Church Road and Ridge Road | None | +623
| Approximately 1,500 feet downstream of the confluence of Centerville Creek & Centerville Creek Tributary | None | +671
| Approximately 1,700 feet upstream of the confluence of Centerville Creek & Centerville Creek Tributary | None | +712
Codorus Creek | Approximately 2,000 feet upstream of Furnace Road | None | +275 | Township of East Manchester.
| Approximately 7,500 feet upstream of Furnace Road | None | +275
Codorus Creek | Approximately 2,000 feet upstream of Park Road | None | +519 | Township of North Codorus.
| Approximately 500 feet upstream of Park Road at cross section DC | None | +528
Conewago Creek | Approximately 1,800 feet upstream of confluence of Conewago and Little Conewago Creek | None | +290 | Township of Conewago.
| Approximately 350 feet downstream of Bull Road | None | +344
Dogwood Run | Approximately 2,400 feet upstream of Greenhouse Road | +672 | +677 | Township of Franklin.
| Approximately 3,300 feet upstream of Greenhouse Road | None | +692
Dogwood Run | Approximately 60 feet downstream of the confluence of Dogwood Run and Tributary A | +523 | +526 | Borough of Dillsburg.
| Approximately 1,400 feet upstream of Old Mill Road | +529 | +531
Dogwood Run | Approximately 60 feet downstream of the confluence of Dogwood Run and Tributary A | +523 | +526 | Township of Carroll.
| Approximately 2,000 feet upstream of Camp Ground Road | +602 | +604
East Branch Codorus Creek | Approximately 450 feet downstream of Log Road | None | +494 | Township of Springfield.
| Approximately 600 feet downstream of Hess Farm Road | None | +518
Hartman Run | Approximately 200 feet Southeast of intersection of Lightner Avenue and Walnut Street | None | +389 | Borough of Manchester.
| Approximately 1,500 feet downstream of Forge Hill Road | None | +418
Kreutz Creek | Approximately 200 feet South of the end of Owl Valley Road | None | +424 | Township of Windsor, Township of Lower Windsor.
| Approximately 325 feet South of the end of Owl Valley Road | None | +424
Little Conewago Creek | Approximately 800 feet upstream of confluence of Conewago and Little Conewago Creek | None | +289 | Township of Conewago.
| Approximately 700 feet downstream of Harrisburg Baltimore Expressway | None | +323
Little Conewago Creek | Approximately at Bull Road and Hilton Avenue | None | +374 | Township of Dover.
| Approximately at Carlisle Road | None | +381
Muddy Creek | Approximately at the confluence of Scott Creek & Muddy Creek | None | +220 | Township of Lower Chanceford.
| Approximately at Bridgeton Road | None | +313
Pine Run | Approximately at confluence of Pine Run and Pine Run Tributary 2 | None | +551 | Township of Windsor.
| Approximately 900 feet downstream from the confluence of Pine Run and Pine Run Tributary 1 | None | +587
South Branch Codorus Creek | Approximately 2,000 feet upstream of intersection of Pennsylvania Railroad and Days Mill Road | None | +391 | Township of North Codorus.
| Approximately at confluence South Branch Codorus Creek & East Branch Codorus Creek | None | +416
South Branch Codorus Creek | Approximately at confluence of South Branch Creek & South Branch Creek Tributary B | None | +478 | Township of Springfield.
| Approximately at confluence of South Branch Codorus Creek & Centerville Creek | None | +529
South Branch Codorus Creek | Approximately 3,200 feet downstream from Dam | None | +519 | Township of Heidelberg.
| Approximately 1,300 feet downstream from Dam | None | +519
Stony Run No. 1 | Approximately 850 feet downstream of intersection of Andersontown Road and Brenneman Drive | None | +375 | Township of Fairview.
| Approximately at the intersection of Saw Mill Road and South Wharf Road | None | +419
Stony Run No. 3 | Approximately 80 feet downstream of Beaver Lane | None | +344 | Township of Warrington.
| Approximately 1,450 feet upstream of Beaver Lane | None | +344
Susque­hanna River | Approximately 3,000 feet East of Cooper Road | None | +112 | Township of Peach Bottom.
| Approximately 800 feet upstream of Lay Road Access Road | None | +113
Tributary 1 (North Branch Bermudian Creek) | Approximately 450 feet upstream of Cabin Hollow Road | None | +542 | Township of Carroll.
| Approximately 1,300 feet downstream of Stony Run Road | None | +571
Tyler Run | Approximately 2,000 feet upstream of Tri-Hill Drive | None | +478 | Township of Spring Garden.
| Approximately 2,450 feet upstream of Tri-Hill Drive | None | +486
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Borough of Dillsburg
Maps are available for inspection at Municipal Building, 151 South Baltimore Street, Dillsburg, PA.
Borough of Manchester
Maps are available for inspection at Municipal Building, 225 South Main Street, Manchester, PA.
Township of Carroll
Maps are available for inspection at Municipal Building, 555 Chestnut Grove Road, Dillsburg, PA.
Township of Conewago
Maps are available for inspection at Municipal Building, 490 Copenhaffer Road, York, PA.
Township of Dover
Maps are available for inspection at Municipal Building, 2480 Wet Canal Road, Dover, PA.
Township of East Manchester
Maps are available for inspection at Municipal Building, 5080 North Sherman Street Extended, Mount Wolf, PA.
Township of Fairview
Maps are available for inspection at Municipal Building, 599 Lewisberry Road, New Cumberland, PA.
Township of Fawn
Maps are available for inspection at Municipal Building, 245 Alum Rock Road, New Park, PA.
Township of Franklin
Maps are available for inspection at Municipal Building, 150 Century Lane, Dillsburg, PA.
Township of Heidelberg
Maps are available for inspection at Municipal Building, 6424 York Road, Spring Grove, PA 17331.
Township of Lower Chanceford
Maps are available for inspection at Municipal Building, 4120 Delta Road, Airville, PA.
Township of Lower Windsor
Maps are available for inspection at Township Office, 111 Walnut Valley Court, Wrightsville, PA 17368.
Township of North Codorus
Maps are available for inspection at Municipal Building, 1986 Stoverstown Road, Spring Grove, PA.
Township of North Hopewell
Maps are available for inspection at Municipal Building, 13081 High Point Road, Felton, PA.
Township of Peach Bottom
Maps are available for inspection at Municipal Building, 545 Broad Street Extended, Delta, PA.
Township of Shrewsbury
Maps are available for inspection at Municipal Building, 12341 Susquehanna Trail, Glen Rock, PA.
Township of Spring Garden
Maps are available for inspection at Administration Building, 558 Ogontz Street, York, PA.
Township of Springfield
Maps are available for inspection at Municipal Building, 9211 Susqehanna Trail South, Seven Valleys, PA.
Township of Warrington
Maps are available for inspection at Municipal Building, 3345 Rosstown Road, Wellsville, PA.
Township of Windsor
Maps are available for inspection at Municipal Building, 1480 Windsor Road, Red Lion, PA 17356.
Anderson County, Texas, and Incorporated Areas
Bassett Creek | Approximately 2,828 Feet downstream from the Intersection of Bassett Road and Bassett Creek | None | +322 | Unincorporated Areas of Anderson County.
| Approximately 1,619 Feet downstream from the Intersection of Bassett Road and Bassett Creek | None | +326
Wells Creek | Approximately 1,829 feet downstream from the confluence of Wells Creek, Wells Creek Northwest, and Wells Creek Tributary South | None | +374 | Unincorporated Areas of Anderson County.
| Approximately 373 feet downstream from North Loop 256 | None | +374
| Approximately 1,020 feet downstream from Moody Street | None | +381
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Anderson County
Maps are available for inspection at County Courthouse, 500 North Church Street, Palestine, TX 75801.

(Catalog of Federal Domestic Assistance No. 97.022, “Flood Insurance.”)

Dated: October 31, 2008.
Michael K. Buckley,
Acting Assistant Administrator, Mitigation Directorate, Department of Homeland Security, Federal Emergency Management Agency.

[FR Doc. E8-26709 Filed 11-7-08; 8:45 am]

BILLING CODE 9110-12-P